ENVIRONMENTAL PROTECTION AGENCY

[EPA-HQ-OPP-2008-0761; FRL-8387-3]

Notice of Receipt of Requests for Amendments to Delete Uses in Certain Pesticide Registrations

AGENCY: Environmental Protection Agency (EPA).

ACTION: Notice.

SUMMARY: In accordance with section 6(f)(1) of the Federal Insecticide, Fungicide, and Rodenticide Act (FIFRA), as amended, EPA is issuing a notice of receipt of request for amendments by registrants to delete uses in certain pesticide registrations. Section 6(f)(1) of FIFRA provides that a registrant of a pesticide product may at any time request that any of its pesticide registrations be amended to delete one or more uses. FIFRA further provides that, before acting on the request, EPA must publish a notice of receipt of any request in the Federal Register.

DATES: The deletions are effective by April 27, 2009 or November 28, 2008 for registrations for which the registrant requested a waiver of the 180-day comment period. The Agency will consider withdrawal requests postmarked no later than April 27, 2009 or November 28, 2008, whichever is applicable. Comments must be received on or before April 27, 2009 or November 28, 2008, for those registrations where the 180-day comment period has been waived.

Users of these products who desire continued use on crops or sites being deleted should contact the applicable registrant on or before April 27, 2009 or November 28, 2008 for registrations for which the registrant requested a waiver of the 180-day comment period.

ADDRESSES: Submit your withdrawal request, identified by docket identification (ID) number EPA-HQ-OPP-2008-0761, by one of the following methods:

•Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility’s normal hours of operation (8:30 a.m. to 4 p.m., Monday through Friday, excluding legal holidays). Special arrangements should be made for deliveries of boxed information. The Docket Facility telephone number is (703) 305-5805.

FOR FURTHER INFORMATION CONTACT: John Jamula, Information Technology and Resources Management Division (7502P), Office of Pesticide Programs, Environmental Protection Agency, 1200 Pennsylvania Ave., NW., Washington, DC 20460-0001; telephone number: (703) 305-6426; e-mail address: jamula.john@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Copies of this Document and Other Related Information?

1. Docket. EPA has established a docket for this action under docket ID number EPA-HQ-OPP-2008-0761. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. What Action is the Agency Taking?

This notice announces receipt by the Agency of applications from registrants to delete uses in certain pesticide registrations. These registrations are listed in Table 1 of this unit by registration number, product name, active ingredient, and specific uses deleted:

Table—Registrations With Requests for Amendments to Delete Uses in Certain Pesticides
EPA Reg. No. | Product Name | Active Ingredient | Delete From Label
000149-00016 | Sweeney's Poison Peanuts Mole & Gopher Bait | Zinc Phosphide | Golf Courses
000264-00452 | Iprodione Technical | Iprodione | Rice
000264-00469 | MOCAP 20% Granular Lock n Load | Ethoprone | Corn and Potato
000264-00482 | Rovral Brand 4 Flowable Fungicide | Iprodione | Rice
000264-00524 | Roval Brand WG Fungicide | Iprodione | Rice
000264-00532 | Roval Brand 50 SP Fungicide | Iprodione | Rice
000264-00689 | Roval Brand 75 WG Fungicide | Iprodione | Rice
000279-02712 | Furadan 10G Insecticide/Nematicide | Carbofuran | Cucumbers, Melons, Squash
000279-02876 | Furadan 4F Insecticide/Nematicide | Carbofuran | Alfalfa, Cotton (at plant use only), Ornamentals, Pine Seedlings (except SE U.S) Popcorn, Potatoes (except Pacific NW ID,OR,WA) Small Grains, Sugarcane, Sweet Corn, Tobacco
000279-03023 | Furadan 15G Insecticide/Nematicide | Carbofuran | Cucumbers, Melons, Squash
000279-03310 | Furadan LFR Insecticide/Nematicide | Carbofuran | Alfalfa, Cotton (at plant use only), Ornamentals, Pine Seedlings (except SE U.S) Popcorn, Potatoes (except Pacific NW ID,OR,WA) Small Grains, Sugarcane, Sweet Corn, Tobacco
000464-00670 | AMICAL 48 | diiodmethyl p-tolyl sulfone | Metalworking, Nitrocellulose and Preservation of Drains, Grease Traps and Septic Systems Maintenance
000464-00672 | AMICAL WP Antimicrobial Agent | diiodmethyl p-tolyl sulfone | Metalworking, Nitrocellulose and Preservation of Drains, Grease Traps and Septic Systems Maintenance
000464-00672 | AMICAL WP Antimicrobial Agent | diodomethyl p-tolyl sulfone | Textiles and Non-Wovens, Wood, Rubber, and Plastic Uses
000464-00673 | AMICAL Flowable Antimicrobial Agent | diiodmethyl p-tolyl sulfone | Metalworking, Nitrocellulose and Preservation of Drains, Grease Traps and Septic Systems Maintenance
002749-00521 | Phorate 20G | Phorate | Sugarcane
005785-00008 | Bromo-O-Gas .50% | Methyl Bromide | Residential Structures, Other Non-Commodity Structures (i.e. Warehouses, Industrial Sites, Processing Plants) excluding Fumigation of Any Structurs Containing Post-Harvest Food, non-Food Materials Consisting of Bags, Boxes, etc.
005785-00055 | Bromo-O-Gas .25% | Methyl Bromide | Residential Structures, Other Non-Commodity Structures (i.e. Warehouses, Industrial Sites, Processing Plants) excluding Fumigation of Any Structurs Containing Post-Harvest Food, non-Food Materials Consisting of Bags, Boxes, etc.
008356-00002 | Chloropicrin 100 Fumigant | Chloropicrin | Fumigation of Enclosed Spaces, Treatment of Wood, Timbers, Poles, Piles and Glue-Laminated Beams for Control of Internal Wood Decay by Fungi and Insects
008622-00017 | Metrabrom 99 | Methyl Bromide | Residential Structures, Other Non-Commodity Structures (i.e. Warehouses, Industrial Sites, Processing Plants) excluding Fumigation of Any Structurs Containing Post-Harvest Food, non-Food Materials Consisting of Bags, Boxes, etc.
008622-00055 | Metrabrom Q | Methyl Bromide | Residential Structures, Other Non-Commodity Structures (i.e. Warehouses, Industrial Sites, Processing Plants) excluding Fumigation of Any Structurs Containing Post-Harvest Food, non-Food Materials Consisting of Bags, Boxes, etc.
009198-00196 | Fertilizer with TGR POA Annual Control | Paclobutrazol | Residential, Home Lawn Uses
009198-00199 | TGR Winter Overseeding Enhancer | Paclobutrazol | Residential, Home Lawn Uses
009198-00205 | TGR Turf Enhancer 2SC | Paclobutrazol | Residential, Home Lawn Uses
009198-00215 | The Andersons Fertilizer with 0.25% Paclobutrazol | Paclobutrazol | Residential, Home Lawn Uses
039967-00010 | Preventol A8 Technical Fungicide | Tebuconazole | Paint
039967-00013 | Preventol A8 Preservative | Tebuconazole | Paint
043813-00002 | FUNGAFLOR Technical | Imazalil | Formulating Use for Wheat and Barley Seed Treatment Products
043813-00006 | FUNGAFLOR 500 EC | Imazalil | Seed Treatment Use for Wheat and Barley
058266-00002 | Tri-Clor Fumigant | Chloropicrin | Fumigation of Enclosed Spaces, Treatment of Wood, Timbers, Poles, Piles and Glue-Laminated Beams for Control of Internal Wood Decay by Fungi and Insects
062719-003911> | KERB 50-W For Manufacturing Use | Propyzamide | Residential Use
062719-00397 | KERB 50-W Herbicide | Propyzamide | Residential Use
062719-00541 | Delegate WG | Spinetoram | Sorghum and Millet
062719-00545 | Radiant SC | Spinetoram | Sorghum and Millet
062719-00578 | KERB 3.3 SC Herbicide | Propyzamide | Residential Use
066222-00144 | Nevado 4F | Iprodione | Rice
066330-00356 | Acephate 90SP | Acephate | Cotton Seed Hopper Box Treatment, Peanut Planter Box Seed Treatment, Tobacco Soil Treatment, Specialty Uses Non Crop Areas, Mound Treatment of Fire Ants, Outdoor and Perimeter Spray
067760-00034 | Fyfanon ULV Mosquito | Malathion | Agricultural Uses, Alfalfa, Clover, Beans, Blueberry, Cereal Crops,Grain Crops, Corn, Grain Sorghum, Cherries, Cotton, and Rice
067760-00040 | Fyfanon 57EC | Malathion | Anise, Beans (Dry and Succulent), Commercial/Institutional/Industrial Equipment (indoors), Dried Parsley, Greenhouse (Vegetables Grown in Commercial Greenhouses), Lentils, Peanuts, Safflower, Stored Products, Sunflower, Tobacco, fruit dump
083504-00001 | Technical Fosetyl-Al | Fosetyl-Al | Tobacco

Users of these products who desire continued use on crops or sites being deleted should contact the applicable registrant before April 27, 2009 or November 28, 2008 for registrations for which the registrant requested a waiver of the 180-day comment period to discuss withdrawal of the application for amendment. This time period will also permit interested members of the public to intercede with registrants prior to the Agency's approval of the deletion. A request to waive the 180-day comment period has been received for the following registrations: 769-574; 769-728; 769-971; 769-972; 769-976; 39967-10; 39967-13; 43813-2; 43813-6.

Table 2 of this unit includes the names and addresses of record for all registrants of the products listed in Table 1 of this unit, in sequence by EPA company number.

Table 2—Registrants Requesting Amendments to Delete Uses in Certain Pesticide Products
EPA Company no. | Company Name and Address
000149 | Delta Analytical Corp., Agent For: Senoret Chemical Co., Inc., 12510 Prosperity Drive, Suite 160, Silver Spring, MD 20904.
000264 | Bayer Cropscience LP, 2 T.W. Alexander Drive, Research Triangle Park, NC 27709.
000279 | FMC Corp. Agricultural Products Group, 1735 Market St., Philadelphia, PA 19103.
000464 | The Dow Chemical Co., Agent For: Dow Chemical Co., The, 1500 E. Lake Cook Rd., Buffalo Grove, IL 60089.
000769 | Value Gardens Supply, Llc, d/b/a Value Garden Supply, PO Box 585, Saint Joseph, MO 64502.
002749 | Aceto Agriculture Chemicals Corp., One Hollow Lane, Lake Success, NY 11042-1215.
005785 | Great Lakes Chem Corp., Director of Regulatory Affairs, PO Box 2200, West Lafayette, IN 47996-2200.
008622 | ICL-IP America, Inc., 95 Maccorkle Ave. Southwest, South Charleston, WV 25303-1411.
009198 | The Andersons Lawn Fertilizer Division, Inc., dba/ Free Flow Fertilizer, PO Box 119, Maumee, OH 43537.
039967 | Lanxess Corp., 111 Ridc Park W. Drive, Pittsburgh, PA 15275-1112.
043813 | Janssen PMP, Janssen Pharmaceutica NV, 1125 Trenton-Harbourton Rd, Titusville, NJ 08560-0200.
058266 | Shadow Mountain Products Corp., PO Box 1327, Hollister, CA 95024
062719 | Dow Agrosciences LlC, 9330 Zionsville Rd 308/2e, Indianapolis, IN 46268-1054.
066222 | Makhteshim-Agan of North America Inc., 4515 Falls of Neuse Rd, Suite 300, Raleigh, NC 27609.
067760 | Cheminova, Inc., 1600 Wilson Blvd., Suite 700, Arlington, VA 22209.
083504 | Kerley Trading, Inc., PO Box 15627, Phoenix, AZ 85060-5627.

III. What is the Agency's Authority for Taking this Action?

Section 6(f)(1) of FIFRA provides that a registrant of a pesticide product may at any time request that any of its pesticide registrations be amended to delete one or more uses. The FIFRA further provides that, before acting on the request, EPA must publish a notice of receipt of any such request in the Federal Register. Thereafter, the Administrator may approve such a request.

IV. Procedures for Withdrawal of Request

Registrants who choose to withdraw a request for use deletion must submit the withdrawal in writing to John Jamula using the methods in ADDRESSES. Requests for withdrawal must be received on or before April 27, 2009 or November 28, 2008, for those registrations where the 180-day comment period has been waived.

V. Provisions for Disposition of Existing Stocks

The Agency has authorized the registrants to sell or distribute product under the previously approved labeling for a period of 18 months after approval of the revision, unless other restrictions have been imposed, as in special review actions.

List of Subjects

Environmental protection, Pesticides and pests.

Dated: October 16, 2008.
Katryn Bouvé,
Director, Information Technology and Resources Management Division.

[FR Doc. E8-25517 Filed 10-28-08; 8:45 am]

BILLING CODE 6560-50-S